DEPARTMENT OF THE TREASURY

Agency Information Collection Activities; Submission for OMB Review; Comment Request; Multiple Tax and Trade Bureau Information Collection Requests

AGENCY: Departmental Offices, Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before October 30, 2023 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Alcohol and Tobacco Tax and Trade Bureau (TTB)

(1) Title: Tax Information Authorization.

OMB Control Number: 1513-0001.

Type of Review: Extension without change of a currently approved collection.

Description: In general, the Internal Revenue Code (IRC) at 26 U.S.C. 6103 protects the privacy of taxpayer information by, among other things, prohibiting the disclosure of tax returns and taxpayer information to unauthorized persons. However, under 26 U.S.C. 6103(c), a taxpayer may authorize a representative to receive otherwise confidential tax information. Under that IRC authority and the related Department of Treasury regulations, the Alcohol and Tobacco Tax and Trade Bureau (TTB) requires a taxpayer to file form TTB F 5000.19 to authorize a representative, who does not have a power of attorney, to receive otherwise confidential information regarding the taxpayer. TTB uses the information provided on this form to properly identify the taxpayer's designated representative and the scope of that representative's authority to obtain otherwise confidential information about the taxpayer.

Form: TTB F 5000.19.

Affected Public: Businesses or other for-profits, Individuals or households.

Estimated Number of Respondents: 10.

Frequency of Response: On occasion.

Estimated Total Number of Annual Responses: 10.

Estimated Time per Response: 1 hour.

Estimated Total Annual Burden Hours: 10.

(2) Title: Referral of Information.

OMB Control Number: 1513-0013.

Type of Review: Extension without change of a currently approved collection.

Description: Alcohol and Tobacco Tax and Trade Bureau (TTB), during the course of their duties, sometimes discover apparent violations of statutes and regulations under the jurisdiction of State and local government agencies. Using form TTB F 5000.21, Referral of Information, TTB personnel submit information regarding such violations to such external agencies, if disclosure is authorized under 26 U.S.C. 6103 or other Federal laws. The referral form includes a section for the external agency to respond to TTB regarding its action on the referral. This form provides TTB with a consistent means of conveying relevant information to external agencies, and it facilitates information-sharing between TTB and external agencies to support enforcement efforts. The response that TTB requests from these State and local government agencies also provides information as to the utility of the referrals and potential enforcement actions that these external agencies take against the same entities that TTB regulates.

Form: TTB F 5000.21.

Affected Public: Businesses or other for-profits.

Estimated Number of Respondents: 100.

Frequency of Response: On occasion.

Estimated Total Number of Annual Responses: 100.

Estimated Time per Response: 1 hour.

Estimated Total Annual Burden Hours: 100.

(3) Title: Principal Place of Business Address and Place of Production Coding on Beer and Malt Beverage Labels, TTB REC 5130/5.

OMB Control Number: 1513-0085.

Type of Review: Extension without change of a currently approved collection.

Description: Under the authority of the Internal Revenue Code (IRC) at 26 U.S.C. 5412 and the Federal Alcohol Administration Act (FAA Act) at 27 U.S.C. 205(e), the TTB regulations require consumer containers of beer to be marked with the name and address of the brewer. Specific to this information collection, in the case of brewers that operate multiple breweries, the TTB regulations in 27 CFR parts 7 and 25 allow brewers to label beer containers with their principal place of business, provided that the brewer also places a code on each beer container indicating its actual place of production. This option allows multi-plant brewers to use an identical label at all of their breweries. The labeling of beer containers with the producer's name and place of production is a usual and customary business practice undertaken by brewers to identify their products to consumers and facilitate recall of adulterated products. In addition, TTB uses the required information to verify tax refund claims submitted by brewers for the loss or destruction of beer.

Form: None.

Affected Public: Businesses or other for-profits.

Estimated Number of Respondents: 2,725.

Frequency of Response: On occasion.

Estimated Total Number of Annual Responses: 2,725.

Estimated Time per Response: None. The requirement is customary and usual business practice that imposes no additional burden on respondents.

Estimated Total Annual Burden Hours: None.

(4) Title: Petitions to Establish or Modify American Viticultural Areas.

OMB Control Number: 1513-0127.

Type of Review: Extension without change of a currently approved collection.

Description: The Federal Alcohol Administration Act (FAA Act) at 27 U.S.C. 205(e) authorizes the Secretary of the Treasury to prescribe regulations for the labeling of wine, distilled spirits, and malt beverages. The FAA Act provides that these regulations should, among other things, prohibit consumer deception and the use of misleading statements on alcohol beverage labels and ensure that such labels provide the consumer with adequate information as to the identity and quality of the product. Under that authority, TTB regulates the use of appellations of origin on wine labels, including the use of American viticultural area (AVA) names. In response to petitions submitted by interested parties, TTB establishes new AVAs or modifies existing AVAs through the rulemaking process. The TTB regulations in 27 CFR part 9 specify the information to be included in such petitions. TTB uses the provided information to evaluate a petitioner's proposal and, if accepted for rulemaking, TTB drafts a notice of proposed rulemaking requesting public comment regarding the creation of a new AVA or the amendment of the name, boundary, or other terms of an existing AVA.

Form: None.

Affected Public: Businesses or other for-profits.

Estimated Number of Respondents: 15.

Frequency of Response: On occasion.

Estimated Total Number of Annual Responses: 15.

Estimated Time per Response: 130 hours.

Estimated Total Annual Burden Hours: 1,950.

Authority: 44 U.S.C. 3501 et seq.

Spencer W. Clark,
Treasury PRA Clearance Officer.

[FR Doc. 2023-21482 Filed 9-28-23; 8:45 am]

BILLING CODE 4810-31-P